DEPARTMENT OF THE INTERIOR

Bureau of Land Management

[BLM_HQ_FRN_MO4500183156]

Wild Horse and Burro Advisory Board Meeting

AGENCY: Bureau of Land Management, Interior.

ACTION: Notice of public meeting.

SUMMARY: In accordance with the Federal Land Policy and Management Act of 1976 and the Federal Advisory Committee Act of 1972, the U.S. Department of the Interior, Bureau of Land Management (BLM) Wild Horse and Burro Advisory Board (Board) will hold a public meeting.

DATES: The Board will meet in person on January 7 and 8, 2025, from 8 a.m. to 5 p.m. Pacific time (PT) each day. The Board will participate in an educational field tour to the Rio Cosumnes Correctional Facility on Thursday, January 9, 2025, from 8 a.m. to 1 p.m. PT, which is also open to the public.

ADDRESSES: The Board will meet, and the field tour will commence and conclude at The Officer's Club ballroom, 3410 Westover Street, Sacramento, CA 95652.

The meeting is open to the public. The public may attend the meeting in person or watch via live stream at www.blm.gov/live.

The final agenda will be posted 2 weeks prior to the meeting and can be found on the following web page: www.blm.gov/programs/wild-horse-and-burro/get-involved/advisory-board.

FOR FURTHER INFORMATION CONTACT: Dorothea Boothe, Wild Horse and Burro Program Coordinator: telephone: (602) 906-5543, email: dboothe@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board advises the Secretary of the Interior, the BLM Director, the Secretary of Agriculture, and the Chief of the U.S. Forest Service (USFS) on matters pertaining to the management and protection of wild, free-roaming horses and burros on the Nation's public lands. The Board operates in accordance with 43 CFR subpart 1784.

Advisory Board Meeting Agenda

Tuesday, January 7, 2025

Session 1—8 a.m. to 10 a.m. PT.

Meeting Called to Order.

Administrative Announcements.

Welcome Remarks from BLM California State Director.

BLM California Wild Horse and Burro Program Overview.

USFS Wild Horse and Burro Program Region 5 Welcome and Update.

Approval of Meeting Minutes: December 2023.

Discussion: BLM and USFS Responses to Board Recommendations from December 2023 Board Meeting.

BREAK—10 a.m. to 10:15 a.m. PT.

Session 2—10:15 a.m. to 11:45 a.m. PT.

BLM and USFS Program Updates.

LUNCH BREAK—11:45 a.m. to 1 p.m. PT.

Session 3—1 p.m. to 2 p.m. PT.

Public Comment Period (first).

Session 4—2 p.m. to 3:30 p.m. PT.

Public Dashboard Demonstration Update.

BREAK—3:30 p.m. to 3:45 p.m. PT.

Session 5—3:45 p.m. to 4:45 p.m. PT.

PopEquus Modeling Demonstrations.

Session 6—4:45 p.m. to 5 p.m. PT.

Advisory Board Discussion and Wrap Up.

Adjourn.

Wednesday, January 8, 2025

Session 7—8 a.m. to 9 a.m. PT.

America's Public Lands Foundation Presentation.

Session 8—9 a.m. to 10 a.m. PT.

Public Comment Period (second).

BREAK—10 a.m. to 10:15 a.m. PT.

Session 9—10:15 a.m. to 11 a.m. PT.

Burro Ecology—Increasing our understanding of disease and migratory patterns of donkeys in Death Valley.

Session 10—11 a.m. to 11:30 a.m. PT.

Comprehensive Animal Welfare Program Update.

LUNCH BREAK—11:30 a.m. to 12:45 p.m. PT.

Session 11—12:45 p.m. to 1:15 p.m. PT.

Partnership Agreements Update.

Session 12—1:15 p.m. to 2:15 p.m. PT.

Q&As with BLM and USFS Officials.

Session 13—2:15 p.m. to 3 p.m. PT.

Advisory Board Reports and Draft Recommendations.

BREAK—3 p.m. to 3:15 p.m. PT.

Session 14—3:15 p.m. to 4:45 p.m. PT.

Advisory Board Discussion and Finalize Recommendations (Board vote).

Adjourn.

Thursday, January 9, 2025

8 a.m. to 1 p.m. PT.

Board Educational Field Tour to the Rio Cosumnes Correctional Center, Elk Grove, CA. (Limited space and advance registration required.)

Public Participation

Due to limited space, those wishing to attend the educational field tour to the Rio Cosumnes Correctional Facility on January 9, 2025, must register via email to dboothe@blm.gov no later than 5 p.m. PT on December 27, 2024. Attendees must provide their own transportation, and any necessary food, health, and safety items needed for a day in the field. Carpooling is encouraged.

The Board, the BLM, and the USFS welcome comments from all interested parties. The public will have an opportunity to make a verbal statement to the Board in person and virtually via Zoom (audio only) on Tuesday, January 7, 2025, from 1 p.m. to 2 p.m. PT and on Wednesday, January 8, 2025, from 9 a.m. to 10 a.m. PT. To provide comments via Zoom, interested parties must register by December 27, 2024, at the following website: https://www.blm.gov/programs/wild-horse-and-burro/advisory-board. To provide comments in-person, interested parties may register on-site up to one hour before the comment period commences. Individuals who have not registered in advance may be permitted to offer comment if time allows. Participants using computers, smartphones, and other personal digital devices will be able to participate with audio only via a link provided by the BLM. Those with phone-only access will be able to participate via a phone number and meeting ID provided by the BLM at the time of registration. The BLM may limit the length of comments, depending on the number of participants who register in advance. The public may also submit written comments to the Board in addition to, or in lieu of, providing verbal comment. Written comments should be submitted to the Board at BLM_WO_Advisory_Board_Comments@blm.gov. Comments emailed five days prior to the meeting will be provided to the Board for consideration during the meeting. The BLM will record the entire meeting, including the allotted public comment sessions. Comments should be specific and explain the reason for the recommendation(s). Comments supported by quantitative information, studies, or those that include citations and analysis of applicable laws and regulations are most useful, and more likely to assist the decision-making process for the management and protection of wild horses and burros.

Meeting Accessibility/Special Accommodations

Please make requests in advance for sign language interpreter services, assistive listening devices, language translation services, or other reasonable accommodations. Contact the person listed in the FOR FURTHER INFORMATION CONTACT section of this notice at least 14 business days prior to the meeting to give the Department of the Interior sufficient time to process your request. All reasonable accommodation requests are managed on a case-by-case basis. Live captioning will be available throughout the event on the BLM livestream page at www.blm.gov/live.

Before including your address, phone number, email address, or other personal identifying information in your comment, you should be aware that your entire comment—including your personal identifying information—may be made publicly available at any time. While you can ask us in your comment to withhold your personal identifying information from public review, the BLM cannot guarantee that it will be able to do so.

(Authority: 43 CFR 1784.4-2)

Sharif D. Branham,
Assistant Director, Resources and Planning.

[FR Doc. 2024-27628 Filed 11-25-24; 8:45 am]

BILLING CODE 4331-27-P